DEPARTMENT OF STATE

[Delegation of Authority 245]

Organization, Functions, and Authority Delegations; Deputy Secretary of State

By virtue of the authority vested in me as Secretary of State, including the authority of section 4 of the State Department Basic Authorities Act, as amended (22 U.S.C. 2651a), I hereby delegate to the Deputy Secretary, to the extent authorized by law, all authorities and functions vested in the Secretary of State or the head of agency by any act, order, determination, delegation of authority, regulation, or executive order, now or hereafter issued. This delegation includes all authorities and functions that have been or may be delegated or redelegated to other Department officials but does not repeal delegations to such officials.

Notwithstanding this delegation of authority, the Secretary of State may exercise any function or authority delegated by this delegation. The Deputy Secretary may, to the extent consistent with law, (1) redelegate such functions and authorities and authorize their successive redelegation, and (2) promulgate such rules and regulations as may be necessary to carry out such functions.

This memorandum shall be published in the Federal Register.

Dated: April 23, 2001.
Colin L. Powell,
Secretary of State, Department of State.

[FR Doc. 01-11015 Filed 5-1-01; 8:45 am]

BILLING CODE 4710-10-P